DEPARTMENT OF TRANSPORTATION

Federal Highway Administration

Notice of Final Federal Agency Actions on the Tappan Zee Hudson River Crossing Project in New York

AGENCY: Federal Highway Administration (FHWA), U.S. DOT.

ACTION: Notice of limitation on claims for judicial review of actions by FHWA.

SUMMARY: This notice announces action taken by the FHWA that relate to the Tappan Zee Hudson River Crossing (New NY Bridge) Project located in Rockland and Westchester Counties, New York.

DATES: A claim seeking judicial review of the Federal agency actions on the highway project will be barred unless the claim is filed on or before July 14, 2017. If this date falls on a Saturday, Sunday, or legal holiday, parties are advised to file their claim no later than the business day preceding this date. If the Federal law that authorizes judicial review of a claim provides a time period of less than 150 days for filing such claim, then that shorter time period still applies.

FOR FURTHER INFORMATION CONTACT: Peter Osborn, Division Administrator, Federal Highway Administration, Leo W. O'Brien Federal Building, Albany, New York 12207, Telephone (518) 431-4127; or Jamey Barbas, Project Director, New York State Thruway Authority, 555 White Plains Road, Tarrytown New York, 10591, Telephone (914) 524-5440.

SUPPLEMENTARY INFORMATION: On October 31, 2012, the FHWA published a “Notice of Final Federal Agency Actions” on the Tappan Zee Hudson River Crossing (New NY Bridge) Project in New York, in the Federal Register at FR Doc. 2012-26799. Tappan Zee Hudson River Crossing (New NY Bridge) Project is located on the Hudson River between the Village of South Nyack in Rockland County on the west and the Village of Tarrytown in Westchester County on the east. The bridge carries Interstate 87 (New York State Thruway) and Interstate 287. The Tappan Zee Hudson River (New NY Bridge) Project involves the replacement of the existing bridge with two new structures (one each for eastbound and westbound traffic), to the north of its existing location, carrying 8-lanes of vehicular traffic and a Shared Use Path. An Environmental Assessment (EA) was prepared for Facilities and Bicycle/Pedestrian Connections associated with the Shared Use Path to determine if potential significant adverse impacts would result from the proposed work in accordance with the requirements of the Council on Environmental Quality's regulations for implementing the procedural provisions of the NEPA of 1969 (40 CFR 1500-1508), the FHWA's Environmental Impact and Related Procedures; 23 CFR 771.130, and the New York SEQRA (6 NYCRR Part 617 and 17 NYCRR Part 15), and a number of other federal and state regulations and requirements, including Section 106 of the National Historic Preservation Act and Section 4(f) of the U.S. Department of Transportation Act. Notice is hereby given that subsequent to the earlier FHWA notice, FHWA has taken final agency actions by issuing an Environmental Assessment/Finding of No Significant Impact (EA/FONSI) and determining that a SEIS is not required for the Facilities and Bicycle/Pedestrian Connections associated with the Shared Use Path. The actions by FHWA are described in the February 2016 EA and FONSI Issued on June 10, 2016. The documents are available by contacting the FHWA or the New York State Thruway Authority at the addresses provided above. The documents can also be viewed and downloaded from the project Web site at www.newnybridge.com. This notice applies to FHWA agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q) (Transportation Conformity).

3. Land: Section 4(f) of the Department of Transportation Act of 1966 [49 U.S.C. 303].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712], Magnuson-Stevens Fishery Conservation and Management Act of 1976, as amended [16 U.S.C. 1801 et seq.].

5. Historic and Cultural Resources: Section 106 of the National Historic Preservation Act of 1966, as amended [16 U.S.C. 470(f) et seq.].

6. Social and Economic: Civil Rights Act of 1964 [42 U.S.C. 2000(d)-2000(d)(1)].

7. Water Resources: Coastal Zone Management Act, 16 U.S.C. 1451-1465.

8. Executive Orders: E.O. 11990 Protection of Wetlands; E.O. 11988 Floodplain Management; E.O. 12898, Federal Actions to Address Environmental Justice in Minority Populations and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1).

Issued on: February 6, 2017.
Peter Osborn,
Division Administrator, Albany, NY.

[FR Doc. 2017-02929 Filed 2-13-17; 8:45 am]

BILLING CODE 4910-RY-P